DEPARTMENT OF EDUCATION

Announcement of an Open Public Hearing

AGENCY: National Advisory Council on Indian Education (NACIE or Council), Department of Education.

ACTION: Announcement of an Open Public Hearing.

SUMMARY: This notice sets forth the schedule of an upcoming public hearing conducted by a subcommittee comprised of NACIE members. The purpose of this public hearing is to receive public comments and/or recommendations and/or suggestions to the Council on the improvement of Federal education programs that include Indian children or adults as participants or that may benefit Indian children or adults, and recommendations concerning the funding of any such program.

DATES: The NACIE public hearings will be held on:

October 15, 2014-9:30 a.m. to 11:30 a.m. Alaska Time Zone (AKDT)

October 15, 2014-1:30 p.m. to 3:30 p.m. Alaska Time Zone (AKDT)

October 16, 2014-9:00 a.m. to 11:00 a.m. Alaska Time Zone (AKDT)

October 16, 2014-1:30 p.m. to 3:30 p.m. Alaska Time Zone (AKDT)

The public hearing meeting location in Anchorage, Alaska is: Hotel Captain Cook, Voyager Room, 939 W 5th Ave, Anchorage, AK 99501, Phone: (907) 276-6000 or (800)-843-1950, Fax: (907) 343-2298.

ADDRESSES: U.S. Department of Education, Office of Elementary and Secondary Education, 400 Maryland Ave. SW., Room 3E205, Washington, DC 20202.

FOR FURTHER INFORMATION CONTACT: Jenelle Leonard, Designated Federal Official, Office of Elementary and Secondary Education, U.S. Department of Education, 400 Maryland Avenue SW., Washington, DC 20202. Telephone: 202-205-2161. Fax: 202-205-5870.

SUPPLEMENTARY INFORMATION: NACIE's Statutory Authority and Function: The National Advisory Council on Indian Education is authorized by § 7141 of the Elementary and Secondary Education Act. The Council is established within the Department of Education to advise the Secretary of Education on the funding and administration (including the development of regulations, and administrative policies and practices) of any program over which the Secretary has jurisdiction and includes Indian children or adults as participants or programs that may benefit Indian children or adults, including any program established under Title VII, Part A of the Elementary and Secondary Education Act. The Council submits to the Congress, not later than June 30 of each year, a report on the activities of the Council that includes recommendations the Council considers appropriate for the improvement of Federal education programs that include Indian children or adults as participants or that may benefit Indian children or adults, and recommendations concerning the funding of any such program.

One of the Council's responsibilities is to develop and provide recommendations to the Secretary of Education on the funding and administration (including the development of regulations, and administrative policies and practices) of any program over which the Secretary has jurisdiction that can benefit Indian children or adults participating in any program which could benefit Indian children. The purpose of the scheduled listening sessions is for the designated NACIE Subcommittee members to conduct a series of listening sessions in conjunction with the National Indian Education Association's Annual Conference. The Conference participants and the general public are invited to provide public comments. The public comments and input will serve to inform the NACIE as they develop recommendations to the Secretary of Education on the funding and administration (including the development of regulations, and administrative policies and practices) of any program over which the Secretary has jurisdiction and includes Indian children or adults as participants or programs that may benefit Indian children or adults, including any program established under Title VII, Part A of the Elementary and Secondary Education Act, and conduct discussions on the development of the report to Congress that should be submitted no later than June 30, of each year.

To sign up to provide comments and RSVP, access the NACIE Web site at WWW.NACIE-ED.ORG beginning October 8, 2014.

Individuals who will need accommodations for a disability in order to attend the meeting (e.g., interpreting services, assistive listening devices, or material in alternative format) should notify Jenelle Leonard at (202) 205-2161, no later than Wednesday, October 8, 2014. We will make every attempt to meet requests for accommodations after this date, but cannot guarantee their availability. The meeting site is accessible to individuals with disabilities.

Speakers will be allowed to provide comments for no more than five (5) minutes. Comments should pertain to the work of NACIE and/or the Office of Indian Education.

Access to Records of the Meeting: The Department will post the official report of the hearings on the NACIE Web site 21 days after the meeting. Pursuant to the FACA, the public may also inspect the materials at the Office of Indian Education, United States Department of Education, 400 Maryland Avenue SW., Washington, DC 20202. Monday-Friday, 8:30 a.m. to 5:00 p.m. Eastern Standard Time or by emailing TribalConsultation@ed.gov or by calling (202) 205-2161 to schedule an appointment.

Reasonable Accommodations: The hearing site is accessible to individuals with disabilities. If you will need an auxiliary aid or service to participate in the meeting (e.g., interpreting service, assistive listening device, or materials in an alternate format), notify the contact person listed in this notice by or no later than October 8, 2014. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: The National Advisory Council on Indian Education is authorized by Section 7141 of the Elementary and Secondary Education Act. The Council is established within the Department of Education to advise the Secretary of Education on the funding and administration (including the development of regulations, and administrative policies and practices) of any program over which the Secretary has jurisdiction and includes Indian children or adults as participants or programs that may benefit Indian children or adults, including any program established under Title VII, Part A of the Elementary and Secondary Education Act.

Deborah S. Delisle,
Assistant Secretary for Elementary and Secondary Education.

[FR Doc. 2014-23612 Filed 10-2-14; 8:45 am]

BILLING CODE 4000-01-P